DEPARTMENT OF THE INTERIOR

Bureau of Land Management

[AZ-240-06-1770-PC-211A]

Call for Nominations for the Sonoran Desert National Monument Advisory Council

AGENCY: Bureau of Land Management, Interior.

ACTION: Notice.

SUMMARY: The Bureau of Land Management (BLM) is publishing this notice under Section 9(a)(2) of the Federal Advisory Committee Act. The BLM is giving notice that the Secretary of the Interior is extending the call for nominations for positions to the Sonoran Desert National Monument Advisory Council (SDNMAC). This notice request the public to submit nominations for membership on the SDNMAC. Any individual or organization may nominate one or more persons to serve on the SDNMAC. Individuals may nominate themselves for SDNMAC membership.

DATES: Submit nomination packets to the address listed below no later than 21 days after date of publication of this notice in the Federal Register.

FOR FURTHER INFORMATION CONTACT: Sonoran Desert National Monument (SDNM) Advisory Council, c/o Karen Kelleher, Monument Manager, BLM, Phoenix District, 21605 North 7th Avenue, Phoenix, Arizona 85027, Phone 623-580-5500, FAX 623-580-5580, e-mail: AZ_SDNMAC@blm.gov. Nomination packets are available for download at the BLM Internet site: http://www.blm.gov/az/sonoran/council.htm, or from the SDNM, BLM (see address listed above).

SUPPLEMENTARY INFORMATION: The purpose of the SDNMAC is to advise the BLM on the management of the Sonoran Desert National Monument as described in the Secretary of the Interior's January 19, 2001, Memorandum. Each member will be a person qualified through education, training, knowledge, or experience to give informed and objective advice regarding the purposes for which the Monument was established, have demonstrated experience or knowledge of the geographical area under the purview of the Council, and have demonstrated a commitment to collaborate in seeking solutions to a wide spectrum of resource management issues. The authority to establish this Council is found in Section 309 of the Federal Land Policy and Management Act, Public Law 94-579 and in Section 14(b) of the Federal Advisory Committee Act, 5 U.S.C. Appendix.

To make a nomination, submit a completed nomination form, letters of reference from the represented interests or organizations, as well as any other information that speaks to the nominee's qualifications, to the SDNM, Bureau of Land Management (see address above). Nominees must reside in Arizona or those portions of adjoining states which the BLM in Arizona administers (including St. George, Utah). The Secretary will appoint 15 members to the Council. The Council shall consist of the following:

• Four persons, one from each tribe, who are selected from nominees submitted by the governing bodies of the following tribes: Tohono O'odham Nation, AK Chin Indian Community, Gila River Indian Community, and Salt River Pima-Maricopa Indian Community, and who represent interests of the nominating tribe;

• A person who represents and participates in what is commonly called dispersed recreation, such as hiking, camping, hunting, nature viewing, nature photography, bird watching, horseback riding, or trail walking;

• A person who represents and participates in what is commonly called mechanized recreation or off-highway driving;

• A person who is a recognized environmental representative from Arizona;

• A person who is an elected official from a city or community in the vicinity of the Monument;

• A person who is a livestock grazing permittee or who represents the permittees on the allotments within the Monument;

• A person who represents the rural communities around the Monument and who is selected at-large from these communities;

• Two persons who represent sciences such as wildlife biology, archaeology, ecology, botany, history, social sciences, or other applicable disciplines;

• A person who represents Maricopa County's interests, to be appointed from nominees submitted by the Supervisors of Maricopa County;

• A person who represents Pinal County's interests, to be appointed from nominees submitted by the Supervisors of Pinal County; and

• A person who represents the State of Arizona, to be appointed from nominees submitted by the Governor of Arizona.

You should identify the specific category that the nominee will represent in your letter of nomination. The

SDNM, BLM will collect the nomination forms and letters of reference and distribute them to the officials responsible for recommending nominees. BLM will then forward recommended nominations to the Secretary of the Interior, who has responsibility for making the appointments.

Members of the SDNMAC serve for 3-year terms. For the initial Council, five members will be appointed to 2-year terms, five members will be appointed for 3 years, and five members will be appointed for 4 years. Thereafter, members of the SDNMAC will be appointed to 3-year terms. One Native American position, the elected official from a local community, the State of Arizona position, the livestock permittee position, and one science position will be 2-year terms that will expire 2 years from the date of appointment to the Council by the Secretary. The mechanized recreation position, the Arizona environmental organization position, the Pinal County representative, and two of the Native American positions will be 3-year terms and will expire 3 years from the date of appointment to the Council by the Secretary. The non-mechanized recreation position, the fourth Native American position, the second science position, the rural at-large position, and the Maricopa County representative will be 4-year terms and will expire 4 years from the date of appointment to the Council by the Secretary. Members will serve without monetary compensation, but will be reimbursed for travel and per diem expenses at current rates for Government employees. The SDNMAC will meet only at the call of the Monument Manager, who is the Designated Federal Official with respect to the Council. The charter requires the SDNMAC to meet no less than 2 times per year.

Karen Kelleher,
Sonoran Desert National Monument Manager, Phoenix District of the Bureau of Land Management.

[FR Doc. E6-21482 Filed 12-15-06; 8:45 am]

BILLING CODE 4310-32-P